DEPARTMENT OF THE INTERIOR

National Park Service

[NPS-WASO-NAGPRA-NPS0028302; PPWOCRADN0-PCU00RP14.R50000]

Notice of Intent To Repatriate Cultural Items: Buffalo Bill Center of the West, Plains Indian Museum, Cody, WY

AGENCY: National Park Service, Interior.

ACTION: Notice.

SUMMARY: The Buffalo Bill Center of the West, Plains Indian Museum in consultation with the appropriate Indian Tribes or Native Hawaiian organizations, has determined that the cultural item listed in this notice meets the definition of an object of cultural patrimony. Lineal descendants or representatives of any Indian Tribe or Native Hawaiian organization not identified in this notice that wish to claim this cultural item should submit a written request to the Buffalo Bill Center of the West, Plains Indian Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Buffalo Bill Center of the West, Plains Indian Museum at the address in this notice by August 19, 2019.

ADDRESSES: Rebecca West, Curator, Plains Indian Museum, Buffalo Bill Center of the West, 720 Sheridan Avenue, Cody, WY 82414, telephone (307) 578-4049, email rebeccaw@centerofthewest.org.

SUPPLEMENTARY INFORMATION: Notice is here given in accordance with the Native American Graves Protection and Repatriation Act (NAGPRA), 25 U.S.C. 3005, of the intent to repatriate a cultural item under the control of the Buffalo Bill Center of the West, Plains Indian Museum, Cody, WY, that meets the definition of an object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

In 1965, Paul Dyck purchased a Beaver Medicine Bundle from Dan Bull Plume, Sr., in Browning, MT. The date of this object is 1860. In 2006, Dyck loaned the Beaver Medicine Bundle to the Buffalo Bill Center of the West. In 2007, following Dyck's death, the Paul Dyck Foundation converted the loan to a gift (accession number NA.800.360). The Beaver Medicine Bundle was identified as Blackfeet (Pikuni) based on a tag written by Dyck describing the object as a “Beaver bundle | pipe—Yellow Wolf | Iron Breast Pikuni 1860—Lone Wolf Coll #86 #87.” The Buffalo Bill Center of the West, Plains Indian Museum contacted the Blackfeet Tribal Business Council offices by letter to inform the Tribal Historic Preservation Officers about Blackfeet and Blackfoot materials at the Plains Indian Museum. In September 2008, members of the Blood Tribe (Canada) Spiritual Advisors, consisting of Horn Society advisors and members, viewed the Beaver Medicine Bundle (NA.800.360) in the Plains Indian Museum of the Buffalo Bill Center of the West, confirmed its identity, and affirmed that Beaver Bundle Ceremonies associated with this bundle are still practiced by both the Blackfoot Nation of Canada and the Blackfeet Tribe of the Blackfeet Indian Reservation of Montana.

In 2017, the Buffalo Bill Center of the West, Plains Indian Museum received a request from the Tribal Historic Preservation Officer of the Blackfeet Tribe of the Blackfeet Indian Reservation of Montana to review Blackfeet and Blackfoot sacred materials. As a result, tribal members in their capacity as Elders for the Beaver Medicine Bundle and Sweat Lodge identified NA.800.360 as a Beaver Medicine Bundle. John Murray sent two letters on behalf of the Blackfeet detailing knowledge of the Beaver Bundle based on past and current ceremonial practices, oral traditions, tribal and personal histories, and documentation of Dan Bull Plume's ownership of the bundle.

Determinations Made by the Buffalo Bill Center of the West, Plains Indian Museum

Officials of the Buffalo Bill Center of the West, Plains Indian Museum have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between object of cultural patrimony and the Blackfeet Tribe of the Blackfeet Indian Reservation of Montana.

Additional Requestors and Disposition

Lineal descendants or representatives of any Indian Tribe or Native Hawaiian organization not identified in this notice that wish to claim these cultural items should submit a written request with information in support of the claim to Rebecca West, Curator, Plains Indian Museum, Buffalo Bill Center of the West, 720 Sheridan Avenue, Cody, WY 82414, telephone (307) 578-4049, email rebeccaw@centerofthewest.org, by August 19, 2019. After that date, if no additional claimants have come forward, transfer of control of the object of cultural patrimony to the Blackfeet Tribe of the Blackfeet Indian Reservation of Montana may proceed.

The Buffalo Bill Center of the West, Plains Indian Museum is responsible for notifying the Blackfeet Tribe of the Blackfeet Indian Reservation of Montana that this notice has been published.

Dated: June 25, 2019.
Melanie O'Brien,
Manager, National NAGPRA Program.

[FR Doc. 2019-15436 Filed 7-18-19; 8:45 am]

BILLING CODE 4312-52-P